FEDERAL COMMUNICATIONS COMMISSION

[IB Docket No. 16-185; DA 22-791; FR 98562]

World Radiocommunication Conference Advisory Committee Schedules Its Sixth Meeting on September 12, 2022

AGENCY: Federal Communications Commission.

ACTION: Notice.

SUMMARY: In accordance with the Federal Advisory Committee Act, this notice advises interested persons that the sixth meeting of the World Radiocommunication Conference Advisory Committee (WAC) will be held on Monday, September 12, 2022 at 11:00 EDT. Due to exceptional circumstances, the sixth WAC meeting will be convened as a virtual meeting with remote participation only. The meeting is open to the public. This sixth WAC meeting will consider status reports and recommendations from its Informal Working Groups (IWG-1, IWG-2, IWG-3, and IWG-4) concerning preparation for the 2023 World Radiocommunication Conference (WRC-23). The Commission's WRC-23 website (www.fcc.gov/wrc-23) contains the latest information on the IWG meeting agendas and audience participation information, all scheduled meeting dates and updates, and Advisory Committee matters. Comments may be presented at the Advisory Committee meeting or in advance of the meeting by email to: WRC-23@fcc.gov.

DATES: Monday, September 12, 2022 at 11:00 EDT

ADDRESSES: 6th WAC Meeting: www.fcc.gov/live.

FOR FURTHER INFORMATION CONTACT: Dante Ibarra, Designated Federal Official, World Radiocommunication Conference Advisory Committee, FCC International Bureau, Global Strategy and Negotiation Division, at Dante.Ibarra@fcc.gov, (202) 418-0610 or WRC-23@fcc.gov.

SUPPLEMENTARY INFORMATION: The FCC established the Advisory Committee to provide advice, technical support and recommendations relating to the preparation of United States proposals and positions for the 2023 World Radiocommunication Conference (WRC-23).

In accordance with the Federal Advisory Committee Act, Public Law 92-463, as amended, this notice advises interested persons of the sixth meeting of the Advisory Committee. The Commission's WRC-23 website (www.fcc.gov/wrc-23) contains the latest information on the IWG meeting agendas and audience participation information, all scheduled meeting dates and updates, and WRC-23 Advisory Committee matters. The sixth WAC meeting will be broadcast live with open captioning over the internet from the FCC Live web page at www.fcc.gov/live. There will be audience participation available; send live questions to livequestions@fcc.gov only during this meeting.

The proposed agenda for the sixth WAC meeting is as follows:

Agenda

Sixth Meeting of the World Radiocommunication Conference Advisory Committee

Federal Communications Commission

Monday, September 12, 2022; 11:00 a.m. ET

1. Opening Remarks

2. Approval of Agenda

3. Approval of the Minutes of the Fifth Meeting

4. IWG Reports and Consideration Documents

5. Future Meetings

6. Other Business

Federal Communications Commission.
Troy Tanner,
Deputy Bureau Chief, International Bureau.

[FR Doc. 2022-16525 Filed 8-1-22; 8:45 am]

BILLING CODE 6712-01-P